DEPARTMENT OF HOUSING AND URBAN DEVELOPMENT

[Docket No. FR-4809-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll-free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Albert F. Lowas, Jr., Air Force Real Property Agency, 1700 North Moore St., Suite 2300, Arlington, VA 22209-2802; (703) 696-5501; COE: Ms. Shirley Middleswarth, Army Corps of Engineers, Civil Division, Directorate of Real Estate, 441 G Street, NW., Washington, DC 20314-1000; (202) 761-7425; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; VA: Ms. Amelia E. McLellan, Director, Real Property Service (183C), Department of Veterans Affairs, 810 Vermont Avenue, NW., Room 419, Washington, DC 20420; (202) 565-5398; (These are not toll-free numbers).

Dated: November 25, 2003.
John D. Garrity,
Director, Office of Special Needs Assistance Programs.

Title V, Federal Surplus Property Program Federal Register Report for 12/5/2003

Suitable/Available Properties

Buildings (by State)

California

Bldg. 4607

Yosemite Natl Park

Mariposa Co: CA 95389-

Landholding Agency: Interior

Property Number: 61200340010

Status: Unutilized

Comment: 66 sq. ft. storage facility, mountainous terrain, off-site use only

Hawaii

Bldg. 255

Navy Marine Golf Course

Pearl Harbor Co: HI 96860-

Landholding Agency: Navy

Property Number: 77200340042

Status: Excess

Comment: 1946 sq. ft., possible asbestos/lead paint, most recent use—guest quarters, off-site use only

Iowa

23 Buildings

Former Naval Housing

Waverly Co: Bremer IA 50677-

Landholding Agency: GSA

Property Number: 54200340006

Comment: 2 to 3 bedroom homes, 864 to 1760 sq. ft., presence of asbestos/lead paint

GSA Number: 7-I-IA-0463-5

New York

Bldg. 240

Rome Lab

Rome Co: Oneida NY 13441-

Landholding Agency: Air Force

Property Number: 18200340023

Status: Unutilized

Comment: 39108 sq. ft., presence of asbestos, most recent use—Electronic Research Lab

Bldg. 247

Rome Lab

Rome Co: Oneida NY 13441-

Landholding Agency: Air Force

Property Number: 18200340024

Status: Unutilized

Comment: 13199 sq. ft., presence of asbestos, most recent use—Electronic Research Lab

Bldg. 248

Rome Lab

Rome Co: Oneida NY 13441-

Landholding Agency: Air Force

Property Number: 18200340025

Status: Unutilized

Comment: 4000 sq. ft., presence of asbestos, most recent use—Electronic Research Lab

Bldg. 302

Rome Lab

Rome Co: Oneida NY 13441-

Landholding Agency: Air Force

Property Number: 18200340026

Status: Unutilized

Comment: 10288 sq. ft., presence of asbestos, most recent use—communications facility

Tennessee

Tract 01-202

Stones River Natl

Battlefield

Murfreesboro Co: Rutherford TN 37129-

Landholding Agency: Interior

Property Number: 61200340008

Status: Excess

Comment: 1796 sq. ft. residence, off-site use only

Texas

Tract 104-47

San Antonio Mission

San Antonio Co: Bexar TX 78223-

Landholding Agency: Interior

Property Number: 61200340012

Status: Unutilized

Comment: 136 sq. ft., Historical District, off-site use only

Virginia

SSA Trust Fund Bldg.

2301 Park Ave.

Lynchburg Co: VA 24501-

Landholding Agency: GSA

Property Number: 54200340010

Status: Excess

Comment: 3400 sq. ft., most recent use—Office

GSA Number: 4-G-VA-0734

West Virginia

Quarters 77, 78, 79

Hartzog Drive

Harpers Ferry Co: Jefferson WV 25425-

Landholding Agency: Interior

Property Number: 61200340013

Status: Excess

Comment: 1797 sq. ft., needs repair, presence of asbestos/lead paint, most recent use—housing, off-site use only

Land (by State)

Michigan

IOM Site

Chesterfield Road

Chesterfield Co: Macomb MI

Landholding Agency: GSA

Property Number: 54200340008

Status: Excess

Comment: approx. 17.4 acres w/concrete block bldg. in poor condition, most recent use—radio antenna field, narrow right-of-way

GSA Number: 1-D-MI-0603F

Suitable/Unavailable Properties

Buildings (by State)

Colorado

Klein Water Treatment Plant

Rocky Mountain Arsenal

Denver Co: Adams CO 80022-

Landholding Agency: GSA

Property Number: 54200340012

Status: Surplus

Comment: water treatment plant

GSA Number: 7-D-CO-0442-3

Unsuitable Properties

Buildings (by State)

Alaska

Bldg. 4314

Elmendorf AFB

Elmendorf AFB Co: AK 99506-

Landholding Agency: Air Force

Property Number: 18200340001

Status: Unutilized

Reason: Extensive deterioration

Bldg. 6527

Elmendorf AFB

Elmendorf AFB Co: AK 99506-

Landholding Agency: Air Force

Property Number: 18200340002

Status: Unutilized

Reason: Extensive deterioration

Bldg. 7541

Elmendorf AFB

Elmendorf AFB Co: AK 99506-

Landholding Agency: Air Force

Property Number: 18200340003

Status: Unutilized

Reason: Extensive deterioration

Bldg. 8111

Elmendorf AFB

Elmendorf AFB Co: AK 99506-

Landholding Agency: Air Force

Property Number: 18200340004

Status: Unutilized

Reason: Extensive deterioration

Bldg. 9489

Elmendorf AFB

Elmendorf AFB Co: AK 99506-

Landholding Agency: Air Force

Property Number: 18200340005

Status: Unutilized

Reason: Extensive deterioration

Bldg. 10547

Elmendorf AFB

Elmendorf AFB Co: AK 99506-

Landholding Agency: Air Force

Property Number: 18200340006

Status: Unutilized

Reason: Extensive deterioration

California

Bldg. 5057

Edwards AFB

Los Angeles Co: CA 93523-

Landholding Agency: Air Force

Property Number: 18200340007

Status: Excess

Reason: Extensive deterioration

Bldg. 6909

Edwards AFB

Los Angeles Co: CA 93523-

Landholding Agency: Air Force

Property Number: 18200340008

Status: Unutilized

Reason: Secured Area

28 Bldgs. /Area C

Edwards AFB

Los Angeles Co: CA 93523-

Landholding Agency: Air Force

Property Number: 18200340009

Status: Unutilized

Reason: Secured Area

Mobile Home/T00706

Yosemite Natl Park

5001 Trailer Court

El Portal Co: Mariposa CA 95318-

Landholding Agency: Interior

Property Number: 61200340009

Status: Unutilized

Reason: Extensive deterioration

133/215 Conlon

Golden Gate Natl Rec Area

Mill Valley Co: Marin CA 94941-

Landholding Agency: Interior

Property Number: 61200340011

Status: Unutilized

Reason: Extensive deterioration

Colorado

Bldg. 106

Peterson AFB

Colorado Springs Co: El Paso CO 80914-8090

Landholding Agency: Air Force

Property Number: 18200340010

Status: Underutilized

Reasons: Within 2000 ft. of flammable or explosive material; Within airport runway clear zone; Secured Area.

Bldg. 107

Peterson AFB

Colorado Spring Co: El Paso CO 80914-8090

Landholding Agency: Air Force

Property Number: 18200340011

Status: Underutilized

Reasons: Within 2000 ft. of flammable or explosive material; Within airport runway clear zone; Secured Area.

Bldg. 108

Peterson AFB

Colorado Spring Co: El Paso CO 80914-8090

Landholding Agency: Air Force

Property Number: 18200340012

Status: Underutilized

Reasons: Within 2000 ft. of flammable or explosive material; Within airport runway clear zone; Secured Area.

Hawaii

Bldgs. 743, 1002, 6100

Johnston Atoll Airfield

Honolulu Co: HI

Landholding Agency: Air Force

Property Number: 18200340013

Status: Unutilized

Reason: Within 2000 ft. of flammable or explosive material; Within airport runway clear zone; Extensive deterioration

Bldg. 23

Naval Station

Ford Island Co: Honolulu HI 96818-

Landholding Agency: Navy

Property Number: 77200340041

Status: Excess

Reason: Extensive deterioration

Bldgs. 730, 766

Pearl City Peninsula

Pearl City Co: HI 96819-

Landholding Agency: Navy

Property Number: 77200340043

Status: Unutilized

Reason: Extensive deterioration

Illinois

Wings N & P

Bldg. 202

Argonne National Laboratory

Argonne Co: DuPage IL 60439-

Landholding Agency: Energy

Property Number: 41200340020

Status: Excess

Reason: Extensive deterioration

Kansas

6 Bldgs.

Cottonwood Point/Hillsboro Cove

Marion Co: Coffey KS 66861-

Landholding Agency: COE

Property Number: 31200340001

Status: Excess

Reason: Extensive deterioration

20 Bldgs.

Riverside

Burlington Co: Coffey KS 66839-8911

Landholding Agency: COE

Property Number: 31200340002

Status: Excess

Reason: Extensive deterioration

2 Bldgs.

Canning Creek/Richey Cove

Council Grove Co: Morris KS 66846-9322

Landholding Agency: COE

Property Number: 31200340003

Status: Excess

Reason: Extensive deterioration

6 Bldgs.

Santa Fe Trail/Outlet Channel

Council Grove Co: Morris KS 66846-

Landholding Agency: COE

Property Number: 31200340004

Status: Excess

Reason: Extensive deterioration

Residence

Melvern Lake Project

Melvern Co: Osage KS 66510-

Landholding Agency: COE

Property Number: 31200340005

Status: Excess

Reason: Extensive deterioration

2 Bldgs.

Management Park

Vassar Co: KS 66543-

Landholding Agency: COE

Property Number: 31200340006

Status: Excess

Reason: Extensive deterioration

Bldg.

Hickory Campground

Lawrence Co: KS 66049-

Landholding Agency: COE

Property Number: 31200340007

Status: Excess

Reason: Extensive deterioration

Bldg.

Rockhaven Park Area

Lawrence Co: KS 66049-

Landholding Agency: COE

Property Number: 31200340008

Status: Excess

Reason: Extensive deterioration

Bldg.

Overlook Park Area

Lawrence Co: KS 66049-

Landholding Agency: COE

Property Number: 31200340009

Status: Excess

Reason: Extensive deterioration

Bldg.

Walnut Campground

Lawrence Co: KS 66049-

Landholding Agency: COE

Property Number: 31200340010

Status: Excess

Reason: Extensive deterioration

Bldg.

Cedar Ridge Campground

Lawrence Co: KS 66049-

Landholding Agency: COE

Property Number: 31200340011

Status: Excess

Reason: Extensive deterioration

Bldg.

Woodridge Park Area

Lawrence Co: KS 66049-

Landholding Agency: COE

Property Number: 31200340012

Status: Excess

Reason: Extensive deterioration

Missouri

Bldg. 3

VA Medical Center

Jefferson Barracks Division

St. Louis Co: MO 63125-

Landholding Agency: VA

Property Number: 972003400013

Status: Underutilized

Reason: Secured Area

Bldg. 4

VA Medical Center

Jefferson Barracks Division

St. Louis Co: MO 63125-

Landholding Agency: VA

Property Number: 97200340002

Status: Underutilized

Reason: Secured Area

Bldg. 27

VA Medical Center

Jefferson Barracks Division

St. Louis Co: MO 63125-

Landholding Agency: VA

Property Number: 97200340003

Status: Underutilized

Reason: Secured Area

Bldg. 28

VA Medical Center

Jefferson Barracks Division

St. Louis Co: MO 63125-

Landholding Agency: VA

Property Number: 97200340004

Status: Underutilized

Reason: Secured Area

Bldg. 29

VA Medical Center

Jefferson Barracks Division

St. Louis Co: MO 63125-

Landholding Agency: VA

Property Number: 97200340005

Status: Underutilized

Reason: Secured Area

Bldg. 50

VA Medical Center

Jefferson Barracks Division

St. Louis Co: MO 63125-

Landholding Agency: VA

Property Number: 97200340006

Status: Underutilized

Reason: Secured Area

New Mexico

Bldg. 615

Kirtland AFB

Kirtland AFB Co: Bernalillo NM 87117-5663

Landholding Agency: Air Force

Property Number: 18200340014

Status: Unutilized

Reasons: Secured Area Extensive deterioration

Bldg. 736

Kirtland AFB

Kirtland AFB Co: Bernalillo NM 87117-5663

Landholding Agency: Air Force

Property Number: 18200340015

Status: Unutilized

Reason: Secured Area

Bldg. 1013

Kirtland AFB

Kirtland AFB Co: Bernalillo NM 87117-5663

Landholding Agency: Air Force

Property Number: 18200340016

Status: Unutilized

Reason: Secured Area

Bldg. 20419

Kirtland AFB

Kirtland AFB Co: Bernalillo NM 87117-5663

Landholding Agency: Air Force

Property Number: 18200340017

Status: Unutilized

Reason: Secured Area

Bldgs. 29014, 29016, 29017

Kirtland AFB

Kirtland AFB Co: Bernalillo NM 87117-5663

Landholding Agency: Air Force

Property Number: 18200340018

Status: Unutilized

Reasons: Secured Area Extensive deterioration

Bldg. 30102

Kirtland AFB

Kirtland AFB Co: Bernalillo NM 87117-5663

Landholding Agency: Air Force

Property Number: 18200340019

Status: Unutilized

Reason: Secured Area

Bldgs. 37532, 37534

Kirtland AFB

Kirtland AFB Co: Bernalillo NM 87117-5663

Landholding Agency: Air Force

Property Number: 18200340020

Status: Unutilized

Reasons: Secured Area Extensive deterioration

Bldg. 57005

Kirtland AFB

Kirtland AFB Co: Bernalillo NM 87117-5663

Landholding Agency: Air Force

Property Number: 18200340021

Status: Unutilized

Reasons: Secured Area Extensive deterioration

Bldgs. 57006, 57013

Kirtland AFB

Kirtland AFB Co: Bernalillo NM 87117-5663

Landholding Agency: Air Force

Property Number: 18200340022

Status: Unutilized

Reasons: Secured Area Extensive deterioration

Ohio

Army Reserve Center

Plymouth Road

Jamestown Co: Greene OH 45335-

Landholding Agency: GSA

Property Number: 54200340009

Status: Surplus

Reason: Extensive deterioration

GSA Number: 4-G-VA-0734

Oklahoma

2 Bldgs.

Outlet Channel/Walker Creek

Waurika Co: OK 73573-0029

Landholding Agency: COE

Property Number: 31200340013

Status: Excess

Reason: Extensive deterioration

2 Bldgs.

Damsite South

Stigler Co: OK 74462-9440

Landholding Agency: COE

Property Number: 31200340014

Status: Excess

Reason: Extensive deterioration

19 Bldgs.

Kaw Lake

Ponca City Co: OK 74601-9962

Landholding Agency: COE

Property Number: 31200340015

Status: Excess

Reason: Extensive deterioration

30 Bldgs.

Keystone Lake

Sand Springs Co: OK 74063-9338

Landholding Agency: COE

Property Number: 31200340016

Status: Excess

Reason: Extensive deterioration

13 Bldgs.

Oologah Lake

Oologah Co: OK 74053-0700

Landholding Agency: COE

Property Number: 31200340017

Status: Excess

Reason: Extensive deterioration

14 Bldgs.

Pine Creek Lake

Valliant Co: OK 74764-9801

Landholding Agency: COE

Property Number: 31200340018

Status: Excess

Reason: Extensive deterioration

6 Bldgs.

Sardis Lake

Clayton Co: OK 74536-9729

Landholding Agency: COE

Property Number: 31200340019

Status: Excess

Reason: Extensive deterioration

24 Bldgs.

Skiatook Lake

Skiatook Co: OK 74070-9803

Landholding Agency: COE

Property Number: 31200340020

Status: Excess

Reason: Extensive deterioration

40 Bldgs.

Eufaula Lake

Stigler Co: OK 74462-5135

Landholding Agency: COE

Property Number: 31200340021

Status: Excess

Reason: Extensive deterioration

2 Bldgs.

Holiday Cove

Stigler Co: OK 74462-5135

Landholding Agency: COE

Property Number: 31200340022

Status: Excess

Reason: Extensive deterioration

18 Bldgs.

Fort Gibson

Ft. Gibson Co: Wagoner OK 74434-0370

Landholding Agency: COE

Property Number: 31200340023

Status: Excess

Reason: Extensive deterioration

2 Bldgs.

Fort Supply

Ft. Supply Co: Woodward OK 73841-0248

Landholding Agency: COE

Property Number: 31200340024

Status: Excess

Reason: Extensive deterioration

Game Bird House

Fort Supply Lake

Ft. Supply Co: Woodward OK 73841-0248

Landholding Agency: COE

Property Number: 31200340025

Status: Excess

Reason: Extensive deterioration

11 Bldgs.

Hugo Lake

Sawyer Co: OK 74756-0099

Landholding Agency: COE

Property Number: 31200340026

Status: Excess

Reason: Extensive deterioration

5 Bldgs.

Birch Cove/Twin Cove

Skiatook Co: OK 74070-9803

Landholding Agency: COE

Property Number: 31200340027

Status: Excess

Reason: Extensive deterioration

2 Bldgs.

Fairview Group Camp

Canton Co: OK 73724-0069

Landholding Agency: COE

Property Number: 31200340028

Status: Excess

Reason: Extensive deterioration

2 Bldgs.

Chouteau & D Bluff

Gore Co: Wagoner OK 74935-9404

Landholding Agency: COE

Property Number: 31200340029

Status: Excess

Reason: Extensive deterioration

2 Bldgs.

Newt Graham L&D

Gore Co: OK 74935-9404

Landholding Agency: COE

Property Number: 31200340030

Status: Excess

Reason: Extensive deterioration

6 Bldgs.

Damsite/Fisherman's Landing

Sallisaw Co: OK 74955-9445

Landholding Agency: COE

Property Number: 31200340031

Status: Excess

Reason: Extensive deterioration

10 Bldgs.

Webbers Falls Lake

Gore Co: OK 74435-5541

Landholding Agency: COE

Property Number: 31200340032

Status; Excess

Reason: Extensive deterioration

14 Bldgs.

Copan Lake

Copan Co: OK 74022-9762

Landholding Agency: COE

Property Number: 31200340033

Status: Excess

Reason: Extensive deterioration

South Carolina

Bldg.

Fishing Creek/Deer Run

Clarks Hill Co: SC 29821-0010

Landholding Agency: COE

Property Number: 31200340034

Status: Excess

Reason: Extensive deterioration

Texas

58 Bldgs.

Texoma Lake

Denison Co: TX 75020-6425

Landholding Agency: COE

Property Number: 31200340035

Status: Excess

Reason: Extensive deterioration

Virginia

Wharf 2

Naval Station

St. Juliens Creek Annex

Chesapeake Co: VA

Landholding Agency: Navy

Property Number: 77200340044

Status: Unutilized

Reason: Extensive deterioration

Bldg. M2

Naval Station

St. Juliens Creek Annex

Chesapeake Co: VA

Landholding Agency: Navy

Property Number: 77200340045

Status: Excess

Reason: Extensive deterioration

Bldg. 13

Naval Station

St. Juliens Creek Annex

Chesapeake Co: VA

Landholding Agency: Navy

Property Number: 77200340046

Status: Excess

Reason: Extensive deterioration

Bldg. 20

Naval Station

St. Juliens Creek Annex

Chesapeake Co: VA

Landholding Agency: Navy

Property Number: 77200340047

Status: Excess

Reason: Extensive deterioration

Bldg. 64

Naval Station

St. Juliens Creek Annex

Chesapeake Co: VA

Landholding Agency: Navy

Property Number: 77200340048

Status: Excess

Reason: Extensive deterioration

Bldgs. 65, 66, 67

Naval Station

St. Juliens Creek Annex

Chesapeake Co: VA

Landholding Agency: Navy

Property Number: 77200340049

Status: Excess

Reason: Extensive deterioration

Bldg. 86

Naval Station

St. Juliens Creek Annex

Chesapeake Co: VA

Landholding Agency: Navy

Property Number: 77200340050

Status: Excess

Reason: Extensive deterioration

Bldgs. 255, 275

Naval Station

St. Juliens Creek Annex

Chesapeake Co: VA

Landholding Agency: Navy

Property Number: 77200340051

Status: Excess

Reason: Extensive deterioration

Washington

Bldg. 2633

Naval Air Station

Oak Harbor Co: Island WA 98278-

Landholding Agency: Navy

Property Number: 77200340052

Status: Excess

Reason: Extensive deterioration

West Virginia

Radio Transmitter Rcv Site

Greenbrier Street

Charleston Co: WV 25311-

Landholding Agency: GSA

Property Number: 54200340011

Status: Excess

Reason: Within 2,000 ft. of flammable or explosive material

GSA Number: 4-U-WV-0547

Land (by State)

Kentucky

Ferry Access Site

Route 130

Uniontown Co: KY 42461-

Landholding Agency: GSA

Property Number: 54200340007

Status: Excess

Reason: Floodway

GSA Number: 4-D-KY-0612

Montana

Sewage Lagoons/40 acres

VA Center

Ft. Harrison Co: MT 59639-

Landholding Agency: VA

Property Number: 97200340007

Status: Excess

Reason: Floodway

[FR Doc. 03-29872 Filed 12-4-03; 8:45 am]

BILLING CODE 42-29-M